DEPARTMENT OF VETERANS AFFAIRS

[OMB Control No. 2900-0889]

Agency Information Collection Activity Under OMB Review: COVID-19 Veterans Assistance Partial Claim Payment Program

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice by clicking on the following link www.reginfo.gov/public/do/PRAMain, select “Currently under Review—Open for Public Comments”, then search the list for the information collection by Title or “OMB Control No. 2900-0889.”

FOR FURTHER INFORMATION CONTACT: Maribel Aponte, Office of Enterprise and Integration, Data Governance Analytics (008), 810 Vermont Ave. NW, Washington, DC 20420, (202) 266-4688 or email maribel.aponte@va.gov. Please refer to “OMB Control No. 2900-0889” in any correspondence.

SUPPLEMENTARY INFORMATION:

Authority: U.S. Code 38 3720, U.S. Code 38 3732.

Title: COVID-19 Veterans Assistance Partial Claim Payment Program.

OMB Control Number: 2900-0889.

Type of Review: Revision of a currently approved collection.

Abstract: This collection is necessary for VA to accept resubmissions for the COVID-19 Veterans Assistance Partial Claim Payment program (VAPCP) and continue to accept COVID-19 Refund Modifications added under this authority. The COVID-19 Refund Modification submission date was extended through May 31, 2024, and coincides with the foreclosure moratorium which also ends May 31, 2024.

An agency may not conduct or sponsor, and a person is not required to respond to a collection of information unless it displays a currently valid OMB control number. The Federal Register Notice with a 60-day comment period soliciting comments on this collection of information was published at, 89 FR 16817 on March 8, 2024, page 16817.

Affected Public: Individuals and households.

Estimated Annual Burden: 11,670 hours.

Estimated Average Burden per Respondent: 45 minutes.

Frequency of Response: One time.

Estimated Number of Respondents: 15,560.

By direction of the Secretary.
Maribel Aponte,
VA PRA Clearance Officer, Office of Enterprise and Integration, Data Governance Analytics, Department of Veterans Affairs.

[FR Doc. 2024-10231 Filed 5-9-24; 8:45 am]

BILLING CODE 8320-01-P